DEPARTMENT OF TRANSPORTATION

Federal Aviation Administration

Nineteenth Meeting of the NextGen Advisory Committee (NAC)

AGENCY: Federal Aviation Administration (FAA), U.S. Department of Transportation (DOT).

ACTION: Nineteenth Meeting of the NextGen Advisory Committee (NAC).

SUMMARY: The FAA is issuing this notice to advise the public of a meeting of the Nineteenth Meeting of the NextGen Advisory Committee (NAC).

DATES: The meeting will be held October 5, 2016, 8:30 a.m. to 3:00 p.m.

ADDRESSES: The meeting will be held at: JetBlue University (The Lodge at JBU), 8265 Hangar Boulevard, Orlando, Florida 32827.

FOR FURTHER INFORMATION CONTACT: Andy Cebula, NAC Secretariat, 202-330-0652, acebula@rtca.org, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Nineteenth Meeting of the NextGen Advisory Committee (NAC). The agenda will include the following:

October 5, 2016, 8:30 a.m. to 3:00 p.m.

1. Opening of Meeting/Introduction of NAC Members—Chairman Richard Anderson

2. Official Statement of Designated Federal Official—Victoria Wassmer, FAA Acting Deputy Administrator

3. Review and Approval of June 17, 2016 Meeting Summary and Revised Terms of Reference

4. Chairman's Report—Chairman Anderson

5. FAA Report—FAA

6. NAC Communications AdHoc Task Group—Interim Report

7. Airline C/N/S Fleet Plans—United, American, SkyWest; ADS-B Update—FAA

8. Status Reports & Rolling Plan: DataComm, Multiple Runway Operations, Surface, Performance Based Navigation (PBN)

9. PBN Time, Speed, Spacing Task Group—Final Report for Approval

10. Joint Analysis Team—Final Report: Performance Navigation Procedures: North Texas Metroplex, Denver Established on RNP—Final Report for Approval

11. Enhanced Surveillance Task Group—Interim Report

12. Summary of meeting and next steps

13. Closing Comments—DFO and NAC Chairman

14. Other business

15. Adjourn

Although the NAC meeting is open to the public, the meeting location has limited space and security protocols that require advanced registration. Please email bteel@rtca.org with name, company and country of citizenship to pre-register no later than September 29, 2016. With the approval of the Chairman, members of the public may present oral statements at the meeting. Persons wishing to present statements or obtain information should contact the person listed in the FOR FURTHER INFORMATION CONTACT section. Members of the public may present a written statement to the committee at any time.

Issued in Washington, DC, on September 12, 2016.
Mohannad Dawoud,
Management & Program Analyst, Partnership Contracts Branch, ANG-A17, NextGen, Procurement Services Division, Federal Aviation Administration.

[FR Doc. 2016-22209 Filed 9-14-16; 8:45 am]

BILLING CODE 4910-13-P